DEPARTMENT OF COMMERCE

National Oceanic and Atmospheric Administration

[RTID: 0648-XC152]

Research Track Assessment for American Plaice

AGENCY: National Marine Fisheries Service (NMFS), National Oceanic and Atmospheric Administration (NOAA), Commerce.

ACTION: Notice of public meeting.

SUMMARY: NMFS will convene the Research Track Assessment Peer Review Meeting for the purpose of reviewing American plaice. The Research Track Assessment Peer Review is a formal scientific peer-review process for evaluating and presenting stock assessment results to managers for fish stocks in the offshore U.S. waters of the northwest Atlantic. Assessments are prepared by the research track working group and reviewed by an independent panel of stock assessment experts from the Center of Independent Experts (CIE). The public is invited to attend the presentations and discussions between the review panel and the scientists who have participated in the stock assessment process.

DATES: The public portion of the Research Track Assessment Peer Review Meeting will be held from July 18, 2022-July 21, 2022. The meeting will conclude on July 21, 2022 at 12 p.m. Eastern Standard Time. Please see SUPPLEMENTARY INFORMATION for the daily meeting agenda.

ADDRESSES: The meeting will be held via WebEx.

Link: https://noaanmfs-meets.webex.com/noaanmfs-meets/j.php?MTID=mf97d5121d96d26f36e88243f0dd9e013.

Meeting number (access code): 2763 669 5649.

Meeting password: mP4vVXESd74.

FOR FURTHER INFORMATION CONTACT: Michele Traver, phone: 508-257-1642; email: michele.traver@noaa.gov.

SUPPLEMENTARY INFORMATION: For further information, please visit the Northeast Fisheries Science Center (NEFSC) website at https://www.fisheries.noaa.gov/new-england-mid-atlantic/population-assessments/fishery-stock-assessments-new-england-and-mid-atlantic. For additional information about research track stock assessments, please visit the NEFSC web page at https://www.fisheries.noaa.gov/new-england-mid-atlantic/population-assessments/research-track-stock-assessments.

Daily Meeting Agenda—Research Track Peer Review Meeting

The agenda is subject to change; all times are approximate and may be changed at the discretion of the Peer Review Chair.

Monday, July 18, 2022
Time | Topic | Presenter(s) | Notes
7 a.m.-7:15 a.m | Welcome/Logistics Introductions/Agenda/Conduct of Meeting | Michele Traver, Assessment Process Lead Russ Brown, PopDy Branch Chief Yong Chen, Panel Chair
7:15 a.m.-7:45 a.m | Introduction and Overview | Steve Cadrin
7:45 a.m.-8:45 a.m | Term of Reference (TOR) #1 | Lisa Kerr and Jamie Behan | Environmental Effects.
8:45 a.m.-9 a.m | Break
9 a.m.-11a.m | TOR #2 | Steve Cadrin | Fishery Data.
11 a.m.-11:15 a.m | Break
11:15 a.m.-12:15 p.m | TOR #3 | Paul Nitschke and Alex Hansell | Survey Data.
12:15 p.m.-12:30 p.m | Discussion/Summary | Review Panel
12:30 p.m.-12:45 p.m | Public Comment | Public
12:45 p.m | Adjourn

Tuesday, July 19, 2022
Time | Topic | Presenter(s) | Notes
7 a.m.-7:05 a.m | Welcome/Logistics | Michele Traver, Assessment Process Lead Yong Chen, Panel Chair
7:05 a.m.-8 a.m | TOR #3 cont | Paul Nitschke and Alex Hansell | Survey Data.
8 a.m.-9:30 a.m | TOR #4 | Amanda Hart, Tim Miller, Steve Cadrin, Dan Hennen, and Alex Hansell | Assessment Models.
9:30 a.m.-9:45 a.m | Break
9:45 a.m.-11:45 a.m | TOR #4 cont | Amanda Hart, Tim Miller, Steve Cadrin, Dan Hennen, and Alex Hansell | Assessment Models.
11:45 a.m.-12 p.m | Break
12 p.m.-12:30 p.m | TOR #4 cont | Amanda Hart, Tim Miller, Steve Cadrin, Dan Hennen, and Alex Hansell | Assessment Models.
12:30 p.m.-12:45 p.m | Discussion/Summary | Review Panel
12:45 p.m.-1 p.m | Public Comment | Public
1 p.m | Adjourn

Wednesday, July 20, 2022
Time | Topic | Presenter(s) | Notes
7 a.m.-7:05 a.m | Welcome/Logistics | Michele Traver, Assessment Process Lead Yong Chen, Panel Chair
7:05 a.m.-8 a.m | TORs #5 and #6 | Steve Cadrin, Paul Nitschke and Jamie Cournane | Reference Points Projections.
8 a.m.-9 a.m | TOR #7 | Steve Cadrin | Alternative Assessment Approach.
9 a.m.-9:15 a.m | Break
9:15 a.m.-10:45 a.m | TOR #8 and Near Term Plans | Steve Cadrin | Research Recommendations.
10:45 a.m.-11 a.m | Break
11 a.m.-11:15 a.m | Discussion/Summary | Review Panel
11:15 a.m.-11:30 a.m | Public Comment | Public
11:30 a.m.-12 p.m | Key Points/Follow ups/Panel Wrap Ups | Review Panel
12 p.m | Adjourn

Thursday, July 21, 2022
Time | Topic | Presenter(s) | Notes
7 a.m.-12 p.m | Report Writing | Review Panel

The meeting is open to the public; however, during the `Report Writing' session on Thursday, July 21st, the public should not engage in discussion with the Peer Review Panel.

Special Accommodations

This meeting is physically accessible to people with disabilities. Special requests should be directed to Michele Traver, via email.

Dated: July 13, 2022.
Jennifer M. Wallace,
Acting Director, Office of Sustainable Fisheries, National Marine Fisheries Service.

[FR Doc. 2022-15269 Filed 7-15-22; 8:45 am]

BILLING CODE 3510-22-P